DEPARTMENT OF ENERGY

Federal Energy Regulatory Commission

[Docket No. EL04-112-000]

The Governors of: Connecticut, Maine, Massachusetts, New Hampshire, Rhode Island, Vermont; Notice of Petition for Declaratory Order

June 30, 2004.

Take notice that on June 25, 2004, the Governors of Connecticut, Maine, Massachusetts, New Hampshire, Rhode Island and Vermont (collective, the Petitioners) filed a Joint Petition for Declaratory Order to Form a New England Regional State Committee. The Petitioners informed the Commission of their collective intention to form a non-profit corporation, the New England States Committee on Electricity (NESCOE), that will serve as the New England region's regional state committee. Petitioners state that NESCO will focus on developing and making policy recommendations related to resource adequacy and system planning, and will affirmatively investigate and report to the New England Governors on policy questions concerning the possibility of a regional authority for siting of interstate transmission facilities.

The Petitioners request the Commission's declaratory order to require RTO New England (RTO-NE) and the New England participating transmission owners (TOs) provide NESCOE, absent exigent circumstances, with written notice of any proposed additions or changes to market rules or tariffs within a reasonable time before filing the proposed additions or changes to market rules or tariffs within a reasonable time before filing the proposal; require that RTO-NE and the TOs give NESCOE a reasonable opportunity to make determinations regarding any proposed additions or changes to market rules and tariffs that affect matters within the scope of NESCOE's responsibility; require RTO-NE and the TOs to file with the Commission any determinations made by NESCOE, along with an explanation of how the determination was incorporated into RTO-NE's or the TOs' proposal or why it was not followed; require that RTO-NE or the TOs file NESCOE's determinations with the Commission pursuant to their respective authorities under section 205 of the Federal Power Act; require NESCOE to be funded by a regional tariff administered by the RTO-NE and ultimately collected from all New England retail electricity customers; and, require that RTO-NE, the New England Power Pool, and the TOs file amendments to their respective jurisdictional tariffs and agreements to reflect the Commission's intention in the declaratory order resulting from this Petition.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: July 16, 2004.

Linda Mitry,
Acting Secretary.

[FR Doc. E4-1521 Filed 7-12-04; 8:45 am]

BILLING CODE 6717-01-P